ENVIRONMENTAL PROTECTION AGENCY

[FRL-8906-3]

Science Advisory Board Staff Office; Notification of an Upcoming Meeting of the Science Advisory Board Committee on Science Integration for Decision Making

AGENCY: Environmental Protection Agency (EPA).

ACTION: Notice.

SUMMARY: The Environmental Protection Agency (EPA or Agency) Science Advisory Board (SAB) Staff Office announces a public meeting of the SAB Committee to develop a work plan for its study.

DATES: The meeting dates are Tuesday, June 9, 2009 from 9 a.m. to 5 p.m. through Wednesday, June 10, 2009 from 8:30 a.m. to 12 p.m. (Eastern Time).

ADDRESSES: The meeting will be held at the Ritz-Carlton Hotel, 1150 22nd Street, NW., Washington, DC 20037.

FOR FURTHER INFORMATION CONTACT: Members of the public who wish to obtain further information about this meeting must contact Mr. Thomas Miller, Designated Federal Officer (DFO). Mr. Miller may be contacted at the EPA Science Advisory Board (1400F), U.S. Environmental Protection Agency, 1200 Pennsylvania Avenue, NW., Washington, DC 20460; or via telephone/voice mail; (202) 343-9982; fax (202) 233-0643; or e-mail at miller.tom@epa.gov. General information about the EPA SAB, as well as any updates concerning the meeting announced in this notice, may be found on the SAB Web site at http://www.epa.gov/sab.

SUPPLEMENTARY INFORMATION: Pursuant to the Federal Advisory Committee Act, 5 U.S.C., App. 2 (FACA), notice is hereby given that the SAB Committee on Science Integration for Decision Making will hold a public meeting to develop a work plan for its evaluative study on EPA scientific assessment practices for decision making. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: EPA uses many kinds of scientific assessments for policy analysis and decision making. Previous studies by the SAB and National Research Council (NRC) have recommended improvements to strengthen EPA scientific assessment practices for decision making. In its 2000 report, Toward Integrated Environmental Decision-Making (available on the SAB Web site at http://www.epa.gov/sab), the SAB found that an integrated approach to scientific assessment and decision making was needed to effectively address new and complex environmental problems. In its 2008 report, Science and Decisions: Advancing Risk Assessment (National Academies Press, Washington, DC), the NRC recommended improvements in EPA's risk assessment processes to address the complexities of current problems and potential decisions, and ensure that the best available options for managing risks are considered. The SAB is undertaking a new study at the request of the EPA Administrator to evaluate the extent to which scientific assessment practices are integrated into EPA's environmental decision-making processes. The study will build upon the findings of the previous SAB and NRC studies, and recommend actions that EPA could take to improve the integration of scientific assessments for decision making.

To conduct this new study, the SAB Staff Office formed the ad hoc SAB Committee on Science Integration for Decision Making. The Committee is comprised of members of the chartered SAB and its standing committees. The roster and biosketches of members of the Committee are posted on the SAB Web site at http://www.epa.gov/sab. The purpose of this meeting is to develop a plan for the new study.

Availability of Meeting Materials: The meeting agenda and other material in support of this meeting are posted on the SAB Web site at http://www.epa.gov/sab.

Procedures for Providing Public Input: Interested members of the public may submit relevant written or oral information on the topic of this advisory activity, and/or the group conducting the activity, for the SAB to consider during the advisory process.

Oral Statements: In general, individuals or groups requesting an oral presentation at a public meeting will be limited to five minutes per speaker, with no more than a total of one hour for all speakers. Interested parties should contact Mr. Miller, DFO, in writing (preferably via e-mail) at the contact information noted above, by June 2, 2009 to be placed on a list of public speakers for the meeting.

Written Statements: Written statements should be received in the SAB Staff Office by June 2, 2009 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Mr. Miller at the phone number or e-mail address noted above, preferably at least ten days prior to the meeting to give EPA as much time as possible to process your request.

Dated: May 12, 2009.
Anthony F. Maciorowski,
Deputy Director, EPA Science Advisory Board Staff Office.

[FR Doc. E9-11521 Filed 5-15-09; 8:45 am]

BILLING CODE 6560-50-P